DEPARTMENT OF HEALTH AND HUMAN SERVICES

Health Resources and Services Administration

Secretary's Advisory Committee on Heritable Disorders in Newborns and Children; Notice of Meeting

In accordance with section 10(a)(2) of the Federal Advisory Committee Act (Pub. L. 92-463, codified at 5 U.S.C. App. 2), notice is hereby given of the following meeting:

Name: Secretary's Advisory Committee on Heritable Disorders in Newborns and Children.

Dates and Times: September 22, 2011, 8:30 a.m. to 5 p.m.; September 23, 2011, 8:30 a.m. to 3:30 p.m.

Place: Renaissance Washington, DC DuPont Circle Hotel, 1143 New Hampshire Avenue, NW., Washington, DC 20037.

Status: The meeting will be open to the public with attendance limited due to space availability. Participants are asked to register for the meeting by going to the registration Web site at http://altarum.cvent.com/event/SACHDNC092011. The registration deadline is Tuesday, September 20, 2011. Individuals who need special assistance, such as sign language interpretation or other reasonable accommodations, should indicate their needs on the registration website. The deadline for special accommodation requests is Friday, September 19, 2011. If there are technical problems gaining access to the Web site, please contact Maureen Ball, Meetings Coordinator, at conferences@altarum.org.

Purpose: The Secretary's Advisory Committee on Heritable Disorders in Newborns and Children (Advisory Committee) was established by Congress to advise and guide the Secretary regarding the most appropriate application of universal newborn screening tests, technologies, policies, guidelines and programs for effectively reducing morbidity and mortality in newborns and children having (or at risk) for heritable disorders. The Advisory Committee, as authorized by Public Law 106-310, which added section 1111 of the Public Health Service Act, codified at 42 U.S.C. 300b-10, also provides advice and recommendations concerning grants and projects authorized under section 1109 of the Public Health Service Act (42 U.S.C. 300b-8).

Agenda: The meeting will include a review and reflection of the previous 24 meetings and a look forward. The agenda will include topics related to the past, present, and future work of the Committee, including: (1) A presentation of the previous, current and future endeavors of the External Review Workgroup's activities; (2) an update from the Evidence Evaluation and Methods workgroup's progress on developing the Decision Process Tree; (3) review of previous reports, workgroups and publications from the Committee and next steps for public health genetics; and (4) discussion and presentations on the previous and continued work and reports of the Advisory Committee's subcommittees on laboratory standards and procedures, follow-up and treatment, and education and training. Proposed agenda items are subject to change as priorities dictate. You can locate the Agenda, Committee Roster and Charter, presentations, and meeting materials at the home page of the Advisory Committee's Web site at http://www.hrsa.gov/heritabledisorderscommittee/.

Public Comments: This meeting will include an extended public comment period during the morning session on September 22, 2011. Members of the public can submit written comments and/or present oral comments during the public comment period of the meeting. Those individuals who want to make oral comments are requested to register online by Tuesday, September 20, 2011, at http://altarum.cvent.com/event/SACHDNC092011. Requests should contain the name, address, telephone number, and any professional or business affiliation of the person desiring to make an oral comment. Groups having similar interests are requested to combine their comments and present them through a single representative. Written comments should be e-mailed no later than Tuesday, September 20, 2011 for consideration. Oral and written public comment will be included in the transcripts of the meeting and will be posted to the committee's Web site. Written comments should contain the name, address, telephone number, and any professional or business affiliation of the author. Submit written comments to Maureen Ball, Meetings Coordinator, Conference and Meetings Management, Altarum Institute, 1200 18th Street, NW., Suite 700, Washington, DC 20036, telephone: 202 828-5100; fax: 202 785-3083, or e-mail: conferences@altarum.org.

Contact Person: Anyone interested in obtaining other relevant information should write or contact Alaina M. Harris, Maternal and Child Health Bureau, Health Resources and Services Administration, Room 18A-19, Parklawn Building, 5600 Fishers Lane, Rockville, Maryland 20857, Telephone (301) 443-0721, aharris@hrsa.gov. More information on the Advisory Committee is available at http://mchb.hrsa.gov/heritabledisorderscommittee.

Dated: August 12, 2011.
Reva Harris,
Acting Director, Division of Policy and Information Coordination.

[FR Doc. 2011-21092 Filed 8-17-11; 8:45 am]

BILLING CODE 4165-15-P